DEPARTMENT OF HOMELAND SECURITY

Federal Emergency Management Agency

[Docket ID FEMA-2018-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of February 1, 2019 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

David I. Maurstad,
Deputy Associate Administrator for Insurance and Mitigation, Department of Homeland Security, Federal Emergency Management Agency.

Community | Community map repository address
Taylor County, Florida and Incorporated Areas | Docket No.: FEMA-B-1757
City of Perry | City Hall, 224 South Jefferson Street, Perry, FL 32347.
Unincorporated Areas of Taylor County | Taylor County Courthouse Annex, 201 East Green Street, Perry, FL 32347.
Valley County, Idaho and Incorporated Areas | Docket No.: FEMA-B-1673
City of Cascade | City Hall, 105 South Main Street, Cascade, ID 83611.
City of McCall | City Hall, 216 East Park Street, McCall, ID 83638.
Unincorporated Areas of Valley County | Valley County Courthouse, 219 North Main Street, Cascade, ID 83611.
Polk County, Iowa and Incorporated Areas | Docket No.: FEMA-B-1548
City of Alleman | City Hall, 14000 Northeast 6th Street, Alleman, IA 50007.
City of Altoona | City Hall, 407 8th Street Southeast, Altoona, IA 50009.
City of Ankeny | Public Services Building, 220 West 1st Street, Ankeny, IA 50023.
City of Bondurant | City Hall, 200 2nd Street Northeast, Bondurant, IA 50035.
City of Clive | City Hall, 1900 Northwest 114th Street, Clive, IA 50325.
City of Des Moines | Permit and Development Center, 602 Robert D. Ray Drive, Des Moines, IA 50309.
City of Grimes | City Hall, 101 Northeast Harvey Street, Grimes, IA 50111.
City of Johnston | City Hall, 6221 Merle Hay Road, Johnston, IA 50131.
City of Mitchellville | City Hall, 204 Center Avenue North, Mitchellville, IA 50169.
City of Pleasant Hill | City Hall, 5160 Maple Drive, Suite A, Pleasant Hill, IA 50327.
City of Polk City | City Hall, 112 3rd Street, Polk City, IA 50226.
City of Runnells | City Hall, 110 Brown Street, Runnells, IA 50237.
City of Urbandale | City Hall, 3600 86th Street, Urbandale, IA 50322.
City of West Des Moines | City Hall, 4200 Mills Civic Parkway, West Des Moines, IA 50265.
City of Windsor Heights | City Hall, 1145 66th Street, Suite 1, Windsor Heights, IA 50324.
Unincorporated Areas of Polk County | Polk County Public Works, 5885 Northeast 14th Street, Des Moines, IA 50313.
Garrett County, Maryland and Incorporated Areas | Docket No.: FEMA-B-1745
Unincorporated Areas of Garrett County | Garrett County Courthouse Administrative Building, Department of Permits and Inspection Services, 203 South 4th Street, Room 208, Oakland, MD 21550.
Multnomah County, Oregon and Incorporated Areas | Docket No.: FEMA-B-1703
City of Fairview | Planning Department, 1300 Northeast Village Street, Fairview, OR 97024.
City of Gresham | City Hall, Community Development Office, 1333 Northwest Eastman Parkway, Gresham, OR 97030.
City of Troutdale | City Hall, 219 East Historic Columbia River Highway, Troutdale, OR 97060.
City of Wood Village | City Hall, 2055 Northeast 238th Drive, Wood Village, OR 97060.
Unincorporated Areas of Multnomah County | Multnomah County Office of Land Use and Planning, 1600 Southeast 190th Avenue, Portland, OR 97233.
Wayne County, Pennsylvania (All Jurisdictions) | Docket No.: FEMA-B-1745
Borough of Prompton | Prompton Fire Hall, 638 Prompton Road, Prompton, PA 18456.
Township of Canaan | Canaan Township Secretary's Office, 1327 Roosevelt Highway, Waymart, PA 18472.
Township of Texas | Texas Township Municipal Building, 506 Willow Avenue, Honesdale, PA 18431.
Grant County, West Virginia and Incorporated Areas | Docket No.: FEMA-B-1745
Town of Bayard | Town Hall, 101 Spruce Street, Suite 1, Bayard, WV 26707.
Unincorporated Areas of Grant County | Grant County Courthouse, 5 Highland Avenue, Petersburg, WV 26847.
Racine County, Wisconsin and Incorporated Areas | Docket No.: FEMA-B-1755
Village of Caledonia | Village Hall, 5043 Chester Lane, Racine, WI 53402.
Village of Mount Pleasant | Village Hall, 8811 Campus Drive, Mount Pleasant, WI 53406.

[FR Doc. 2018-23918 Filed 11-1-18; 8:45 am]

BILLING CODE 9110-12-P